DEPARTMENT OF HEALTH AND HUMAN SERVICES

Centers for Medicare & Medicaid Services

[CMS-7077-N]

Announcement of the Advisory Panel on Outreach and Education (APOE) Virtual Meeting

AGENCY: Centers for Medicare & Medicaid Services (CMS), Health and Human Services (HHS).

ACTION: Notice.

SUMMARY: This notice announces the next meeting of the Advisory Panel on Outreach and Education (APOE) (the Panel) in accordance with the Federal Advisory Committee Act. The Panel advises and makes recommendations to the Secretary of the U.S. Department of Health and Human Services (HHS) (the Secretary) and the Administrator of the Centers for Medicare & Medicaid Services (CMS) on opportunities to enhance the effectiveness of consumer education strategies concerning the Health Insurance Marketplace®,¹ Medicare, Medicaid, and the Children's Health Insurance Program (CHIP). This meeting is open to the public.

¹ The Health Insurance Marketplace® is a registered service mark of the U.S. Department of Health and Human Services.

DATES:

Meeting Date: Thursday, February 6, 2025 from 12:30 p.m. to 5 p.m. eastern standard time (e.s.t).

Deadline for Meeting Registration, Presentations, Special Accommodations, and Comments: Thursday, January 23, 2025 by 5 p.m. e.s.t.

ADDRESSES:

Meeting Location: Virtual. All those who RSVP will receive the link to attend.

Presentations and Written Comments: Presentations and written comments should be submitted to: Hailey Gutzmer, Acting Designated Federal Official (DFO), Office of Communications, Centers for Medicare & Medicaid Services, 200 Independence Avenue SW, Mailstop 315D.02, Washington, DC 20201, 410-786-1307, or via email at APOE@cms.hhs.gov.

Registration: Persons wishing to attend this meeting must register at the website https://CMS-APOE-February2025.rsvpify.com or by contacting the DFO listed in the FOR FURTHER INFORMATION CONTACT section of this notice, by the date listed in the DATES section of this notice. Individuals requiring sign language interpretation or other special accommodations should contact the DFO at the address listed in the ADDRESSES section of this notice by the date listed in the DATES section of this notice.

FOR FURTHER INFORMATION CONTACT: Hailey Gutzmer, Acting Designated Federal Official, Office of Communications, Centers for Medicare & Medicaid Services, 200 Independence Avenue SW, Mailstop 315D.02, Washington, DC 20201, 410-786-1307, or via email at APOE@cms.hhs.gov.

Additional information about the APOE is available at: https://www.cms.gov/Regulations-and-Guidance/Guidance/FACA/APOE. Press inquiries are handled through the CMS Press Office at (202) 690-6145.

SUPPLEMENTARY INFORMATION:

I. Background and Charter Renewal Information

A. Background

The Advisory Panel on Outreach and Education (APOE) (the Panel) is governed by the provisions of the Federal Advisory Committee Act (FACA) (Pub. L. 92-463), as amended (5 U.S.C. Appendix 2), which sets forth standards for the formation and use of federal advisory committees. The Panel is authorized by section 1114(f) of the Social Security Act (the Act) (42 U.S.C. 1314(f)) and section 222 of the Public Health Service Act (42 U.S.C. 217a).

The Panel, which was first chartered in 1999, advises and makes recommendations to the Secretary of U.S. Department of Health and Human Services (HHS) and the Administrator of the Centers for Medicare & Medicaid Services (CMS) on the effective implementation of national Medicare, Medicaid, Children's Health Insurance Program (CHIP) and Health Insurance Marketplace® outreach and education programs.

The APOE has focused on a variety of laws, including the Medicare Modernization Act of 2003 (Pub. L. 108-173), and the Affordable Care Act (Patient Protection and Affordable Care Act, (Pub. L. 111-148) and Health Care and Education Reconciliation Act of 2010 (Pub. L. 111-152)).

The APOE helps the Department determine the best communication channels and tactics for various programs and priorities, as well as new rules and laws. In the coming years, we anticipate the American Rescue Plan (Pub. L. 117-2), the Inflation Reduction Act of 2022 (Pub. L. 117-169), and the SUPPORT for Patients and Communities Act (SUPPORT) Act (Pub. L. 115-271) will be some of the topics the Panel will discuss. The Panel will provide feedback to CMS staff on outreach and education strategies, communication tools and messages and how to best reach minority, vulnerable, and Limited English Proficiency populations.

B. Charter Renewal

The Panel's charter was renewed on January 19, 2023, and will terminate on January 19, 2025, unless renewed by appropriate action. The Charter is currently under review for renewal. The Charter can be found at https://www.cms.gov/regulations-and-guidance/guidance/faca/apoe.

In accordance with the renewed charter, the APOE will advise the Secretary and the CMS Administrator concerning optimal strategies for the following:

• Developing and implementing education and outreach programs for individuals enrolled in, or eligible for, Medicare, Medicaid, CHIP, and coverage available through the Health Insurance Marketplace® and other CMS programs.

• Enhancing the federal government's effectiveness in informing Medicare, Medicaid, CHIP, or the Health Insurance Marketplace® consumers, issuers, providers, and stakeholders, pursuant to education and outreach programs regarding these programs, including public-private partnerships to leverage the resources of the private sector in educating beneficiaries, providers, partners and stakeholders.

• Expanding outreach to minority and underserved communities, including racial and ethnic minorities, in the context of Medicare, Medicaid, CHIP, and the Health Insurance Marketplace® education programs and other CMS programs as designated.

• Assembling and sharing an information base of “best practices” for helping consumers evaluate health coverage options.

• Building and leveraging existing community infrastructure for information, counseling, and assistance.

• Drawing the program link between outreach and education, promoting consumer understanding of health care coverage choices, and facilitating consumer selection/enrollment, which in turn support the overarching goal of improved access to quality care, including prevention services, envisioned under the Affordable Care Act.

The current members of the Panel as of September 19, 2024 are as follows:

• Mitchell Balk, President, The Mt. Sinai Health Foundation.

• Paula Campbell, Director of Health Equity and Emergency Response, Illinois Primary Care Association.

• Dr. Matthew Fullen, Associate Professor of Counselor Education, Virginia Tech.

• Justin Gust, Vice President of Community Engagement, El Centro, Inc.

• Andrea Haynes, MD, Family Medicine Physician, PPC Austin Family Health Center.

• Lydia Isaac, Vice President for Health Equity and Policy, National Urban League.

• Vacheria Keys, Director of Policy and Regulatory Affairs, National Association of Community Health Centers.

• Daisy Kim, Assistant Director for Government Relations and Legislative Analysis, University of California System.

• Lynn Kimball, Executive Director, Aging and Long-Term Care of Eastern Washington.

• Erin Loubier, Senior Director for Health and Legal Integration and Payment Innovation, Whitman-Walker Health.

• Dr. Alister Martin, Physician and Assistant Professor, Harvard Medical School and Harvard Kennedy School.

• Neil Meltzer, President and CEO, LifeBridge Health.

• Dr. Carol Podgorski, Professor of Psychiatry, Associate Chair of Academic Affairs, University of Rochester Medical Center.

• Melanie Prince, CEO MAPYourWay, LLC; Immediate Past President, Case Management Society of America.

• Carrie Rogers, Associate Director, Community Catalyst.

• Tricia Sandiego, Senior Advisor, Caregiving and Health Team, AARP.

• Marsha Schofield, President, Marsha Schofield & Associates LLC.

• Mina Schultz, Health Policy and Advocacy Manager, Young Invincibles.

• Daniel Spirn, Vice President, Government Relations, Utilization Review Accreditation Commission.

• Emily Whicheloe, Director of Education, Medicare Rights Center.

II. Meeting Format and Agenda

In accordance with section 10(a) of the FACA, this notice announces a meeting of the APOE. The agenda for the February 6, 2025 meeting will include the following:

• Welcome and opening remarks from CMS leadership.

• Recap of the previous (September 19, 2024) meeting.

• Presentations on CMS programs, initiatives, and priorities; discussion of panel recommendations.

• An opportunity for public comment.

• Meeting adjourned.

Individuals or organizations that wish to make a 5-minute oral presentation on an agenda topic should submit a written copy of the oral presentation to the DFO at the address listed in the ADDRESSES section of this notice by the date listed in the DATES section of this notice. The number of oral presentations may be limited by the time available. Individuals not wishing to make an oral presentation may submit written comments to the DFO at the address listed in the ADDRESSES section of this notice by the date listed in the DATES section of this notice.

III. Meeting Participation

The meeting is open to the public, but attendance is limited to registered participants. Persons wishing to attend this meeting must register at the following weblink https://CMS-APOE-February2025.rsvpify.com or by contacting the DFO at the address or telephone number listed in the FOR FURTHER INFORMATION CONTACT section of this notice by the date specified in the DATES section of this notice. This meeting will be held virtually. Individuals who are not registered in advance will be unable to attend this meeting.

IV. Collection of Information

This document does not impose information collection requirements, that is, reporting, recordkeeping, or third-party disclosure requirements. Consequently, there is no need for review by the Office of Management and Budget under the authority of the Paperwork Reduction Act of 1995 (44 U.S.C. Chapter 35).

The Administrator of the Centers for Medicare & Medicaid Services (CMS), Chiquita Brooks-LaSure, having reviewed and approved this document, authorizes Chyana Woodyard, who is the Federal Register Liaison, to electronically sign this document for purposes of publication in the Federal Register.

Chyana Woodyard,
Federal Register Liaison, Centers for Medicare & Medicaid Services.

[FR Doc. 2025-00385 Filed 1-8-25; 8:45 am]

BILLING CODE 4120-01-P